Notice of July 21, 2023

Continuation of the National Emergency With Respect to Mali

On July 26, 2019, by Executive Order 13882, the President declared a national emergency pursuant to the International Emergency Economic Powers Act (50 U.S.C. 1701 et seq.) to deal with the unusual and extraordinary threat to the national security and foreign policy of the United States constituted by the situation in Mali.

The situation in Mali, including repeated violations of ceasefire arrangements made pursuant to the 2015 Agreement on Peace and Reconciliation in Mali; the expansion of terrorist activities into southern and central Mali; the intensification of drug trafficking and trafficking in persons, human rights abuses, and hostage-taking; a further coup d'etat; the presence of foreign mercenaries threatening peace, security, and stability; and the intensification of attacks against civilians, the Malian defense and security forces, the United Nations Multidimensional Integrated Stabilization Mission in Mali (MINUSMA), and international security presences, continues to pose an unusual and extraordinary threat to the national security and foreign policy of the United States. For this reason, the national emergency declared in Executive Order 13882 on July 26, 2019, must continue in effect beyond July 26, 2023. Therefore, in accordance with section 202(d) of the National Emergencies Act (50 U.S.C. 1622(d)), I am continuing for 1 year the national emergency declared in Executive Order 13882 with respect to the situation in Mali.

This notice shall be published in the Federal Register and transmitted to the Congress.

THE WHITE HOUSE,

July 21, 2023.

[FR Doc. 2023-15896

Filed 7-24-23; 11:15 am]

Billing code 3395-F3-P